DEPARTMENT OF HEALTH AND HUMAN SERVICES

Centers for Disease Control and Prevention

[Program Announcement 02060-FY03]

National Cancer Prevention and Control Program; Open Season; Notice of Availability Funds

A. Purpose

The Centers for Disease Control and Prevention (CDC) announces the availability of fiscal year (FY) 2003 funds for an Open Season for the National Cancer Prevention and Control Program (NCPCP) cooperative agreement program previously announced in Program Announcement 02060, National Cancer Prevention and Control Program (Henceforth referred to as PA 02060.) This program addresses the “Healthy People 2010” focus areas related to cancer.

PA 02060 was published in the Federal Register on April 23, 2002, Volume 67, Number 78, pages 19932-19950. Amendment 1 was published May 23, 2002, and Amendment 2 was published January 2, 2003. Applicants may access the amended version of PA 02060, along with this Open Season announcement, on the CDC Web site, Internet address: http://www.cdc.gov.

Click on “Funding,” then “Grants and Cooperative Agreements.” sections A.-F. of the original PA 02060 are superceded by sections A.-F. published in this Open Season announcement. If you do not have access to the Internet, or if you have difficulty accessing the announcements on-line, you may call the CDC Procurement and Grants Office, Technical Information Management Section at 770-488-2700 for assistance.

The NCPCP will assist States/District of Columbia/Tribes/Territories in developing, implementing, maintaining, enhancing, integrating, and evaluating a cancer program inclusive of cancer surveillance, prevention, and early detection programs, with a focus on eliminating health disparities. The purpose of each of the three programmatic components within the NCPCP is as follows:

A.1. National Comprehensive Cancer Control Programs (NCCCP)

The NCCCP component supports the planning and implementation of comprehensive cancer control activities. CDC defines comprehensive cancer control as an integrated and coordinated approach to reduce the incidence, morbidity and mortality of cancer through prevention, early detection, treatment, rehabilitation, and palliation.

A.2. National Breast and Cervical Cancer Early Detection Program (NBCCEDP)

The NBCCEDP component supports the development of systems to assure breast and cervical cancer screening for low income, underserved, and uninsured women with special emphasis on reaching those who are geographically or culturally isolated, older, or members of racial/ethnic minorities. Components of the NBCCEDP include surveillance, partnership development, screening, referral and follow-up, quality assurance, public and provider education, and evaluation. These components are carried out at the local, State and national levels through collaborative partnerships with State health agencies, community-based organizations, tribal governments, universities, a variety of medical care providers and related agencies and institutions, and the business and voluntary sectors. These partners work together to develop, implement and evaluate strategies to promote breast and cervical cancer prevention and early detection, to increase access to related services and to improve the quality and timeliness of the services.

A.3. National Program of Cancer Registries (NPCR)

The NPCR component supports efforts to establish population-based cancer registries where they do not exist and to improve existing cancer registries.

The amended PA 02060 contains information that is specific to the three individual components. Section G “Specific Guidance for NCCCP” addresses the National Comprehensive Cancer Control Program; section H “Specific Guidance for NBCCEDP” addresses the National Breast and Cervical Cancer Early Detection Program; and section I “Specific Guidance for NPCR” addresses the National Program of Cancer Registries. These component sections include specific guidance regarding:

• Eligibility

• Program Requirements

• Application Content

• Other Requirements

• Evaluation Criteria

Please refer to these specific component sections in the amended PA 02060 for additional information.

Special Guidelines for Technical Assistance

Conference Call

Technical assistance will be available for potential applicants on a conference call. The call will take place on Tuesday, January 28, 2003, from 3 p.m. eastern standard time until 5 p.m. eastern standard time.

Potential applicants are requested to call in using only one telephone line. The conference can be accessed by calling 1-800-713-1971, or 404-639-4100, and entering access code 553768. The purpose of the conference call is to help potential applicants to:

1. Understand the process for the Open Season Announcement for PA 02060 for the National Cancer Prevention and Control Program.

2. Understand the scope and intent of PA 02060 for the National Cancer Prevention and Control Program.

3. Be familiar with the Public Health Services funding policies and application and review procedures.

Participation in this conference call is not mandatory. At the time of the call, if you have problems accessing the conference call, please call 404-639-7550.

B. Eligible Applicants

Applicants may apply for any or all of the components within this Open Season announcement for which they are eligible. Eligibility Criteria for each component are as follows:

B.1. Eligible for NCCCP

Potential applicants that are eligible for components of NCCCP are the health departments of States or their bona fide agents, the District of Columbia, the Commonwealth of Puerto Rico, the Virgin Islands, the Commonwealth of the Northern Mariana Islands, American Samoa, Guam, the Federated States of Micronesia, the Republic of the Marshall Islands, the Republic of Palau, and Federally recognized Indian tribal governments and tribal organizations, urban Indian organizations and inter-tribal consortia (hereafter referred to as tribes) whose primary purpose is to improve American Indian/Alaska Native health and which represent the Native population in their catchment area, that are not currently funded for NCCCP under PA 02060.

B.2. Eligible for NBCCEDP

Potential applicants that are eligible for NBCCEDP are the Virgin Islands, the Commonwealth of the Northern Mariana Islands, American Samoa, Guam, the Federated States of Micronesia, the Republic of the Marshall Islands, the Republic of Palau, and Federally recognized Indian tribal governments and tribal organizations, urban Indian organizations and inter-tribal consortia (hereafter referred to as tribes) whose primary purpose is to improve American Indian/Alaska Native health and which represent the Native population in their catchment area, that are not currently funded for NBCCEDP under PA 02060.

B.3. Eligible for NPCR

Potential applicants that are eligible for components of NPCR are the health departments of States or their bona fide agents, the District of Columbia, the Commonwealth of Puerto Rico, the Virgin Islands, the Commonwealth of the Northern Mariana Islands, American Samoa, Guam, the Federated States of Micronesia, the Republic of the Marshall Islands, the Republic of Palau, and academic or nonprofit organizations designated by the State to operate the State's cancer registry, that are not currently funded under PA 02060.

Note: Title 2 of the United States Code section 1611 states that an organization described in section 501(c)(4) of the Internal Revenue Code that engages in lobbying activities is not eligible to receive Federal funds constituting an award, grant or loan.

C. Funds

Availability of Funds

Pending availability of FY 2003 funds, approximately $6,250,000 is available in FY 2003 to fund new programs under the Open Season for PA 02060-FY03.

Awards under PA 02060 were made for a Project Period of September 30, 2002, through June 29, 2007. The first budget period was September 30, 2002, through June 29, 2003. Awards under this Open Season announcement will be for a Project Period of June 30, 2003, through June 29, 2007, with a budget period of June 30, 2003, through June 29, 2004. Future budget periods will be 12-month periods, and will begin on June 30 of every year and run through June 29 of each following year. These budget periods will occur until the expiration of the project period for PA 02060, which is June 29, 2007.

Component Funding

NCCCP—$1,000,000

NBCCEDP—$2,000,000

NPCR—$250,000

NCCCP—Optional Funding available for recipients of NCCCP Implementation Programs as follows:

• Colorectal cancer activities—$1,000,000

• Ovarian cancer activities—$1,000,000

• Prostate cancer activities—$1,000,000

Funding Preference

In accordance with the “Funding Preference” section of the amended PA 02060, funding preference may be given to applicants from previous year's applications who were considered Approved but Unfunded (ABU). Criteria for determining which programs would be eligible for this consideration were based on an acceptable score from the previous (fiscal year 2002) objective review. Funding preference will be given to NCCCP Planning applicants, including: California, Delaware, Fon du Lac Reservation, Indiana, Kansas, Missouri, Nevada, New Hampshire, Oklahoma, Oregon, South Carolina, South Puget Intertribal Planning Agency, Tennessee, and Washington, DC. Funding preference will be given to NCCCP Implementation applicants, including: Massachusetts, Northwest Portland Area Indian Health Board, Rhode Island, and Texas. Applicants listed above need not submit a new application to be considered for funding. Programs who previously applied and are not on this list, but are interested in being funded, must reapply. In addition, applicants who previously submitted a Planning application that was approved but unfunded, and now wish to be considered for Implementation, must submit a new application.

For component specific funding preference information, please refer to sections G, H, and I of the amended PA 02060.

Requested Budget Information

Applicants should submit separate budgets for each component (as well as separate budgets if applying for the Optional Funding under NCCCP) in response to this Open Season announcement. Each detailed budget and narrative justification should support the activities for the funding period specified in this Program Announcement for FY 2003 support.

Applications should follow the guidance provided under each program component in the amended PA 02060, with respect to the development and submission of an itemized budget and justification.

Use of Funds

For specific use of funds information, refer to sections G, H, and I of the amended PA 02060.

Cooperative agreement funds may be used to support personnel and to purchase equipment, supplies, and services directly related to project activities and consistent with the scope of the cooperative agreement.

Funds provided under this program announcement may not be used to:

• Conduct research projects. Guidance regarding CDC's definition of “research” should be reviewed at: http://www.cdc.gov/od/ads/opspoll1.htm.

• Supplant State or local funds, provide inpatient care or treatment, or support the construction or renovation of facilities.

Applicants are encouraged to identify and leverage mutually beneficial opportunities to interact and integrate with other State health department programs that address related chronic diseases or risk factors. This may include cost sharing to support a shared position such as a Chronic Disease Epidemiologist, Health Communication Specialist, Program Evaluator, or Policy Analyst to work on relevant activities across units/departments within the State health department. Such activities may include, but are not limited to, joint planning, joint funding of complementary activities, public health education, collaborative development and implementation of environmental, policy, systems, or community interventions and other cost sharing activities.

Recipient Financial Participation

For specific recipient financial participation information, please refer to sections G, H, and I of the amended PA 02060.

Direct Assistance

For specific Direct Assistance information, please refer to sections G, H, and I of the amended PA 02060.

Funding Consideration

For specific component funding consideration information, please refer to sections G, H, and I of the amended PA 02060.

D. Content

Letter of Intent

One Letter of Intent (LOI) is requested from each applicant applying for any component(s) of this program. The narrative should be no more than one single-spaced page, printed on one side, with one-inch margins, and unreduced font. Your LOI will not be evaluated, but will be used to assist CDC in planning for the objective review for this program and should include the announcement number, the specific component(s) and parts of the component, if applicable, for which funds are being applied, and the name of the principal investigator.

Application Development

Please refer to sections G, H, and I of the amended PA 02060 to use the information in the Program Requirements, Other Requirements, and Evaluation Criteria sections to develop the application content. Your application will be evaluated using the criteria listed, so it is important to follow them in laying out your application.

Applications should follow the guidance below with respect to page limitations for each component. All applications should be printed on one side, with one-inch margins, using unreduced font. All materials must be provided in an unbound, one-sided, 8 ½ by 11 inch print format, suitable for photocopying (i.e., no audiovisual materials, posters, tapes, etc.)

Page Limitations

For specific page limitations information, please see sections G, H, and I of the amended PA 02060.

Application Outline

Applicants may apply for any or all of the components within this program announcement for which they are eligible. Please provide specific application outline information for each component as outlined in specific sections G, H, and I of the amended PA 02060.

E. Submission and Deadline

Letter of Intent

On or before February 5, 2003, submit the LOI to the Grants Management Specialist identified in the “Where to Obtain Additional Information” section of this announcement.

Application

Submit the signed original and two copies of CDC Form 0.1246. Forms are available at the following Internet address: www.cdc.gov/od/pgo/forminfo.htm. If you do not have access to the Internet, or if you have difficulty accessing the forms on-line, you may contact the CDC Procurement and Grants Office Technical Information Management Section at: 770-488-2700. Application forms can be mailed to you.

The application must be received by 4 p.m. eastern time March 7, 2003. Submit the application to: Technical Information Management-PA02060-FY03, CDC Procurement and Grants Office, 2920 Brandywine Road, Room 3000, Atlanta, GA 30341-4146.

Applications may not be submitted electronically.

Please reference Program Announcement Number 02060-FY03 National Cancer Prevention and Control Program on the mailing envelope and on the application Standard Form 424, block 11. Please also make sure that block 16 on Standard Form 424 regarding Executive Order 12372 has been completed correctly.

Deadline

Letters of intent and applications shall be considered as meeting the deadline if they are received before 4 p.m. eastern time on the deadline date. Any applicant who sends their application by the United States Postal Service or commercial delivery services must ensure that the carrier will be able to guarantee delivery of the application by the closing date and time. If an application is received after closing due to (1) Carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

F. Evaluation Criteria

Each application will be evaluated individually, through an objective review process.

For specific evaluation criteria information, please see sections G, H, and I of the amended PA 02060.

Where To Obtain Additional Information

This, and other CDC announcements can be found on the CDC home page, Internet address: http://www.cdc.gov.

Click on “Funding” then “Grants and Cooperative Agreements.”

For general questions about this announcement, contact: Technical Information Management, CDC Procurement and Grants Office, 2920 Brandywine Road, Room 3000, Atlanta, GA 30341-4146. Telephone: 770-488-2441.

For business management and budget assistance, contact: Annie Camacho or Glynnis Taylor, Grants Management Specialist, CDC Procurement and Grants Office, 2920 Brandywine Road, Room 3000, Atlanta, GA 30341-4146.

Telephone: Annie Camacho: 770-488-2735. Glynnis Taylor: 70-488-2752.

E-mail address: Annie Camacho: atc4@cdc.gov. Glynnis Taylor: gld1@cdc.gov.

For business management and budget assistance in the territories, contact: Charlotte Flitcraft, Grants Management Officer, CDC Procurement and Grants Office, 2920 Brandywine Road, Room 3000, Atlanta, GA 30341-4146. Telephone: 770-488-2632. E-mail address: caf5@cdc.gov.

For program technical assistance contact:

NCCCP:

Leslie S. Given, M.P.A., Public Health Advisor, NCCCP, Program Services Branch, Division of Cancer Prevention and Control, National Center for Chronic Disease Prevention and Health Promotion, Centers for Disease Control and Prevention. 4770 Buford Hwy., NE. (MS K-57), Atlanta, GA 30341-3717. Telephone number: 770-488-3099. E-mail address: llg5@cdc.gov.

NBCCEDP:

Susan True, M.Ed., Branch Chief, Program Services Branch, Division of Cancer Prevention and Control, National Center for Chronic Disease Prevention and Health Promotion, Centers for Disease Control and Prevention, 4770 Buford Hwy., NE. (MS K-57), Atlanta, GA 30341-3717. Telephone number: 770-488-4880. E-mail address: smt7@cdc.gov.

NPCR:

Leah Simpson, M.B.A., Program Analyst, Cancer Surveillance Branch, Division of Cancer Prevention and Control, National Center for Chronic Disease Prevention and Health Promotion, Centers for Disease Control and Prevention, 4770 Buford Hwy., NE. (MS K-53), Atlanta, GA 30341-3717. Telephone number: 770-488-4158. E-mail address: lds0@cdc.gov.

Dated: January 13, 2003.
Sandra R. Manning,
CGFM, Director, Procurement and Grants Office, Centers for Disease Control and Prevention.

[FR Doc. 03-1192 Filed 1-17-03; 8:45 am]

BILLING CODE 4163-18-P